DEPARTMENT OF COMMERCE

Foreign-Trade Zones Board

[B-25-2019]

Foreign-Trade Zone (FTZ) 80—San Antonio, Texas; Authorization of Production Activity; CGT U.S., Ltd. (Polyvinyl Chloride Coated Upholstery Fabric Cover Stock); New Braunfels, Texas

On April 10, 2019, CGT U.S., Ltd. submitted a notification of proposed production activity to the FTZ Board for its facility within Subzone 80E, in New Braunfels, Texas.

The notification was processed in accordance with the regulations of the FTZ Board (15 CFR part 400), including notice in the Federal Register inviting public comment (84 FR 16245, April 18, 2019). On August 8, 2019, the applicant was notified of the FTZ Board's decision that no further review of the proposed activity is warranted at this time. The FTZ Board authorized the production activity described in the notification, subject to the FTZ Act and the Board's regulations, including Section 400.14. Given the applicant's commitment in its notification, polyester knit woven dyed fabric must be admitted to the subzone in privileged foreign status (19 CFR 146.41).

Dated: August 8, 2019.
Elizabeth Whiteman,
Acting Executive Secretary.

[FR Doc. 2019-17316 Filed 8-12-19; 8:45 am]

BILLING CODE 3510-DS-P